DEPARTMENT OF LABOR

Mine Safety and Health Administration

Proposed Information Collection Request Submitted for Public Comment and Recommendations; Permissible Equipment Testing

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95)(44 U.S.C. 3506(c)(2)(A)). This program helps to ensure that requested data can be provided in the desired format, reporting burden (time and financial resources) is minimized, collection instruments are clearly understood, and the impact of collection requirements on respondents can be properly assessed.

DATES: Submit comments on or before June 10, 2002.

ADDRESSES: Send comments to David L. Meyer, Director, Office of Administration and Management, 4015 Wilson Boulevard, Room 615, Arlington, VA 22203-1984. Commenters are encouraged to send their comments on a computer disk, or via Internet E-mail to Meyer-David@msha.gov, along with an original printed copy. Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 22203-1984. Ms. Barnard can be reached at barnard-charlene@msha.gov (Internet E-mail), (703) 235-1470 (voice), or (703) 235-1563 (facsimile).

SUPPLEMENTARY INFORMATION:

I. Background

The Mine Safety and Health Administration (MSHA) is responsible for the inspection, testing, approval and certification, and quality control of mining equipment and components, materials, instruments, and explosives used in both underground and surface coal, metal, and nonmetal mines. Title 30 CFR, parts 15 through 36 contain procedures by which manufacturers may apply for and have equipment approved as “permissible” for use in mines.

II. Desired Focus of Comments

Currently, the Mine Safety and Health Administration (MSHA) is soliciting comments concerning the proposed extension of the information collection related to the Permissible Equipment Testing. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act submission (http://www.msha.gov/regspwork.htm)”, or by contacting the employee listed above in the FOR FURTHER INFORMATION CONTACT section of this notice for a hard copy.

III. Current Actions

Title 30 CFR Parts 15 through 36 require that an investigation leading to approval or certification will be undertaken by the A&CC only pursuant to a written application accompanied by prescribed drawings and specifications identifying the piece of equipment. This information is used by engineers and scientists to evaluate the design in conjunction with tests to assure conformance to standards prior to approval for use in mines.

Types of Review: Extension.

Agency: Mine Safety and Health Administration.

Title: Permissible Equipment Testing.

OMB Number: 1219-0066.

Affected Public: Business or other for-profit.

Cite/reference | Total respondents | Frequency | Total responses | Average time per response | Burden hours (in hours)
Part 15 | 6 | On occasion | 6 |  | 11
Part 18 | 474 | On occasion | 474 | 1 hr. 50 min. | 1,760
Part 19 | 3 | On occasion | 3 | 11 hrs. 36 min. | 21
Part 20 | 5 | On occasion | 8 | 8 hrs | 51
Part 22 | 17 | On ocassion | 11 | 9 hrs. 38 min. | 42
Part 23 | 5 | On occasion | 5 | 8 hrs. 15 min. | 24
Part 27 | 9 | On occasion | 9 | 8 hrs. 45 min. | 30
Part 28 | 2 | On occasion | 2 | 13 hrs. 20 min. | 20
Part 29 | 2 | On occasion | 2 | 10 hrs. | 20
Part 33 | 11 | On occasion | 11 | 6 hrs. 30 min. | 113
Part 35 | 2 | On occasion | 2 | 25 hrs. | 49
Part 36 | 58 |  | 58 | 8 hrs. 44 min. | 805
Totals | 594 |  | 594 |  | 2,946

Total Burden Cost (capital/startup): $0.

Total Burden Cost (operating/maintaining): $443,891.57.

Comments submitted in response to this notice will be summarized and/or included in the request for Office of Management and Budget approval of the information collection request; they will also become a matter of public record.

Dated: April 2, 2002.
David L. Meyer,
Director, Office of Administration and Management.

[FR Doc. 02-8767 Filed 4-10-02; 8:45 am]

BILLING CODE 4510-43-M